DEPARTMENT OF HEALTH AND HUMAN SERVICES

Centers for Disease Control and Prevention

[60Day-050555]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 or send comments to Dale Verell, CDC Alternate OMB Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Public Health Performance Standards Program Local Public Health System Assessment (OMB 0920-0555)—Extension—Office of the Director, Centers for Disease Control and Prevention (CDC).

The Office of the Director, CDC is proposing to extend the currently approved National Public Health Performance Standards Program Local Public Health System Assessment. From 1998-2002, the CDC National Public Health Performance Standards Program convened workgroups with the National Association of County and City Health Officials (NACCHO), The Association of State and Territorial Health Officials (ASTHO), the National Association of Local Boards of Health (NALBOH), the American Public Health Association (APHA), and the Public Health Foundation (PHF) to develop performance standards for public health systems based on the essential services of public health.

CDC is now proposing to extend the formal, voluntary data collection that assesses the capacity of local public health systems to deliver the essential services of public health. Local health departments will respond to the survey on behalf of the collective body of representatives from the local public health system. Electronic data submission will be used when local public health agencies complete the public health assessment.

The extension will provide additional time for local public health systems to undertake the assessment. Some states have sought to include mention of the assessment in legislation or regulations and are now encouraging their localities to respond to the assessment in the upcoming two years. The focus on bioterrorism and other emerging issues diverted resources and attention from immediate use of the assessment since its national release in 2002. A two-year extension will provide additional needed time.

The estimated annualized burden for each extension year is 4,200 hours.

Number of respondents | Number of responses per respondent | Average burden per response (in hours) | Total burden (in hours)
175 | 1 | 24 | 4200
Total |  |  | 4200

Dated: December 22, 2004.
B. Kathy Skipper,
Acting Director, Management Analysis and Services Office, Centers for Disease Control and Prevention.

[FR Doc. 04-28617 Filed 12-29-04; 8:45 am]

BILLING CODE 4163-18-P